DEPARTMENT OF ENERGY

Federal Energy Regulatory Commission

[Project No. 15024-000]

Pumped Hydro Storage LLC; Notice of Preliminary Permit Application Accepted for Filing and Soliciting Comments, Motions To Intervene, and Competing Applications

On March 12, 2020, the Pumped Hydro Storage LLC, filed an application for a preliminary permit, pursuant to section 4(f) of the Federal Power Act (FPA), proposing to study the feasibility of Big Canyon Pumped Storage Project ¹ to be located about 23 miles west of Tuba City, Arizona. The sole purpose of a preliminary permit, if issued, is to grant the permit holder priority to file a license application during the permit term. A preliminary permit does not authorize the permit holder to perform any land-disturbing activities or otherwise enter upon lands or waters owned by others without the owners' express permission.

¹ In its application, Pumped Hydro Storage named the project the Navajo Nation Big Canyon Pumped Storage Project. We note that the proposed project is not in any way affiliated with the Navajo Nation and the Navajo Nation has not had any role in Pumped Hydro Storage's pursuit of this project. To avoid any confusion as to the identity of the project proponent, we have omitted “Navajo Nation” from the project name.

The proposed project would be located entirely on Navajo Nation land and consist of the following new facilities: (1) A 450-foot-long, 200-foot-high concrete arch dam (Upper West Dam), a 1,000-foot-long, 150-foot-high earth filled dam (Middle Dam), and a 10,000-foot-long, 200-foot-high concrete arch dam (Upper East Dam), each of which would impound three separate upper reservoirs with a combine surface area of 400 acres and a total storage capacity of 29,000 acre-feet at a normal maximum operating elevation of 5,390 feet average mean sea level (msl); (2) a 600-foot-long, 400-foot-high concrete arch dam (Lower Dam) that would impound a lower reservoir with a surface area of 260 acres and a total storage capacity of 44,000 acre-feet at a normal maximum operating elevation of 3,790 feet msl; (3) three 10,000-foot-long, 30-foot-diameter reinforced concrete penstocks; (4) a 1,100-foot-long, 160-foot-wide, 140-foot-high reinforced concrete powerhouse housing nine 400-kilowatt pump-turbine generators; (5) a 1,000-foot-long, 120-foot-wide, 40-foot-high reinforced concrete tailrace; (6) three water supply wells with a capacity of 700 horsepower each and a 1,800-foot-long, 36-inch-diameter well water supply pipeline; (7) two new double circuit 500-kilovolt (kV) electric transmission lines that connect the project switchyard to the existing 500-kV and 345-kV transmission lines located 14 miles east of the proposed project; and (8) appurtenant facilities. The estimated annual power generation at the Navajo Nation Big Canyon Pumped Storage Project would be 7,900 Gigawatt-hours.

Applicant Contact: Mr. Steve Irwin, Manager, Pumped Hydro Storage LLC. 6514 S 41st Lane, Phoenix, AZ 85041 Swirwin7@gmail.com.

FERC Contact: Ousmane Sidibe; Phone: (202) 502-6245.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-15024-000.

More information about this project, including a copy of the application, can be viewed or printed on the eLibrary link of Commission's website at http://www.ferc.gov/docs-filing/elibrary.asp. Enter the docket number (P-15024) in the docket number field to access the document. For assistance, contact FERC Online Support.

Dated: June 2, 2020.
Kimberly D. Bose,
Secretary.

[FR Doc. 2020-12407 Filed 6-8-20; 8:45 am]

BILLING CODE 6717-01-P